DEPARTMENT OF COMMERCE

International Trade Administration

[A-570-909]

Certain Steel Nails From the People's Republic of China: Extension of Time Limit for the Final Results of the First Antidumping Duty Administrative Review

AGENCY: Import Administration, International Trade Administration, Department of Commerce.

DATES: Effective Date: December 14, 2010.

FOR FURTHER INFORMATION CONTACT: Emeka Chukwudebe or Matthew Renkey, AD/CVD Operations, Office 9, Import Administration, International Trade Administration, U.S. Department of Commerce, 14th Street and Constitution Avenue, NW., Washington, DC 20230; telephone (202) 482-0219 or (202) 482-2312 respectively.

Background

On September 15, 2010, the Department of Commerce (“Department”) published in the Federal Register the Preliminary Results of the antidumping duty order on certain steel nails (“steel nails”) from the People's Republic of China (“PRC”).¹ Subsequent to the publication of the Preliminary Results, the Department extended the deadlines for submission of surrogate values, rebuttal comments and case briefs.² The period of review (“POR”) is January 23, 2008, through July 31, 2009. The final results are currently due no later than January 13, 2011.

¹ See Certain Steel Nails From the People's Republic of China: Notice of Preliminary Results and Preliminary Rescission, in Part, of the Antidumping Duty Administrative Review, 75 FR 56070 (September 15, 2010) (“Preliminary Results”).

² See Letter from Emeka Chukwudebe, Case Analyst, Office 9, to Interested Parties: Extension Briefing Schedule for 1st AR Antidumping Administrative Reviews of Certain Steel Nails from the People's Republic of China (“PRC”) (October 5, 2010). See also Memorandum For: All Interested Parties, from Emeka Chukwudebe, Case Analyst, Import Administration, dated October 6, 2010. See also Memorandum For: All Interested Parties, from Matthew Renkey, Case Analyst, Import Administration, dated October 21, 2010.

Extension of Time Limit For the Final Results

Section 751(a)(3)(A) of the Tariff Act of 1930, as amended (“Act”), requires that the Department issue the final results of an administrative review within 120 days after the date on which the preliminary results are published. If it is not practicable to complete the review within that time period, section 751(a)(3)(A) of the Act allows the Department to extend the deadline for the final results to a maximum of 180 days after the date on which the preliminary results are published.

The Department finds that it is not practicable to complete the final results within this time limit because the Department is in the process of conducting the verification of a mandatory respondent and needs additional time to complete this verification and issue its final determination. In addition, the extension of the briefing schedule for surrogate values and company-specific issues in this proceeding necessitates additional time for the Department to make its final determination. As a result, the Department finds that it is not practicable to complete verification, to review the surrogate value data, and to analyze the case brief comments within the scheduled time limit. Therefore, in accordance with section 751(a)(3)(A) of the Act, the Department is fully extending the time for the completion of the final results of this review to March 14, 2011.

We are issuing and publishing this notice in accordance with sections 751(a)(1) and 777(i)(1) of the Act.

Dated: December 8, 2010.
Christian Marsh,
Deputy Assistant Secretary for Antidumping and Countervailing Duty Operations.

[FR Doc. 2010-31366 Filed 12-13-10; 8:45 am]

BILLING CODE 3510-DS-P